FINANCIAL STABILITY OVERSIGHT COUNCIL

Notice Seeking Comment on Asset Management Products and Activities

AGENCY: Financial Stability Oversight Council.

ACTION: Notice; extension of comment period.

SUMMARY: On December 24, 2015, the Financial Stability Oversight Council (the Council) published a “Notice Seeking Comment on Asset Management Products and Activities” (the Notice), which states that comments on the Notice must be received not later than February 23, 2015. The Council has determined that an extension of the comment period until March 25, 2015, is appropriate.

DATES: Comments must be received not later than March 25, 2015.

ADDRESSES: You may submit comments by any of the methods identified in the Notice. Please submit your comments using only one method.

FOR FURTHER INFORMATION CONTACT: Patrick Pinschmidt, Deputy Assistant Secretary for the Financial Stability Oversight Council, Department of the Treasury, at (202) 622-2495; Lyndsay Huot, Senior Policy Advisor, Office of the Financial Stability Oversight Council, Department of the Treasury, at (202) 622-5874; or Eric Froman, Office of the General Counsel, Department of the Treasury, at (202) 622-1942.

SUPPLEMENTARY INFORMATION: On December 24, 2014, the Council published the Notice,¹ seeking comment on whether and how certain asset management products and activities could pose potential risks to U.S. financial stability. Specifically, the Notice requests information about whether risks associated with liquidity and redemptions, leverage, operational functions, and resolution in the asset management industry could affect U.S. financial stability. The Notice states that comments must be received no later than February 23, 2015. The Council has determined that an extension of the comment period until March 25, 2015, is appropriate in order to provide the public more time to review, consider, and comment on the Notice.

¹ Notice Seeking Comment on Asset Management Products and Activities, 79 Federal Register 77,488 (Dec. 24, 2014).

Dated: February 4, 2015.
Patrick Pinschmidt,
Deputy Assistant Secretary for the Financial Stability Oversight Council, Department of the Treasury, Executive Director, Financial Stability Oversight Council.

[FR Doc. 2015-02813 Filed 2-10-15; 8:45 am]

BILLING CODE 4810-25-P